Title 3—

The President

Proclamation 10076 of September 14, 2020

National Hispanic Heritage Month, 2020

By the President of the United States of America

A Proclamation

During National Hispanic Heritage Month, we celebrate the countless contributions of more than 60 million Hispanic Americans to our culture and society. Hispanic Americans are the largest minority group in the United States today, and generations of Hispanic Americans have consistently helped make our country strong and prosperous. They contribute to our Nation beyond description. Hispanic Americans embody the best of our American values, including commitment to faith, family, and country. They serve in our military and protect us as members of law enforcement. In fact, Hispanic Americans make up half of our Border Patrol agents. The Hispanic-American community has left an indelible mark on our government, culture, and economy.

As part of our commitment to promoting the success of Hispanic Americans, my Administration will always promote educational opportunity for our Nation's Hispanic-American communities. Hispanic Americans benefit greatly from school choice programs, including the Nation's largest school choice program in Florida, where more than one-third of the recipients are Hispanic-American students. No American student should ever be trapped in a failing public school or a school that does not meet his individual needs. Additionally, we have spurred the creation of more than 16 million education and training opportunities through our Pledge to the American Worker.

My Administration is also working to increase economic opportunities for Hispanic Americans by providing pathways to in-demand jobs and investing in Hispanic-American communities. On July 9, 2020, I signed an Executive Order to establish the White House Hispanic Prosperity Initiative to promote educational and workforce development, encourage private-sector action and public-private partnerships, and to monitor how Federal programs best provide opportunities for Hispanic Americans. Additionally, this Executive Order established the President's Advisory Commission on Hispanic Prosperity, which is dedicated to advising my Administration on ways to improve access to educational and economic opportunities for the Hispanic-American community. This year, my Administration also delivered $1 billion in funding to Minority-Serving Institutions, including Hispanic-Serving Institutions. And since I signed the Tax Cuts and Jobs Act of 2017 into law, nearly 9,000 Opportunity Zones have attracted an estimated $75 billion in new capital investment in economically distressed areas, helping to bring wealth and jobs to the neighborhoods where many Hispanic Americans live.

We are already seeing the positive results of these policies in communities throughout the United States. In the 2017-2018 academic year, the graduation rate for Hispanic students at public high schools rose to 81%, the highest level ever recorded. Before the coronavirus pandemic, the median income for Hispanic Americans had reached its highest level in history. Unemployment reached the lowest rate ever recorded. The poverty rate for Hispanic Americans also hit a record low. And from 2017 to 2018, 362,000 Hispanic Americans became new homeowners, the largest net gain for Hispanics since 2005. In the past 4 months as we have recovered from the coronavirus, we added 3.3 million jobs for Hispanic Americans. It is my promise to the Hispanic-American community and to all Americans that my Administration will continue to do everything in its power to rebuild the economy, ensure opportunity, grow wages, and cut regulations so every family can achieve their own American Dream.

Hispanic Americans will play an incredible role in our country's great years to come, and my Administration proudly stands with them. Their steadfast commitment to America's core values, their steadfast opposition to socialism, and their innumerable contributions to our prosperity enrich our Nation and add to our unmatched culture and way of life.

To honor the achievements of Hispanic Americans, the Congress, by Public Law 100-402, as amended, has authorized and requested the President to issue annually a proclamation designating September 15 through October 15 as “National Hispanic Heritage Month.”

NOW, THEREFORE, I, DONALD J. TRUMP, President of the United States of America, by virtue of the authority vested in me by the Constitution and the laws of the United States, do hereby proclaim September 15 through October 15, 2020, as National Hispanic Heritage Month. I call on public officials, educators, librarians, and all Americans to observe this month with appropriate ceremonies, activities, and programs.

IN WITNESS WHEREOF, I have hereunto set my hand this fourteenth day of September, in the year of our Lord two thousand twenty, and of the Independence of the United States of America the two hundred and forty-fifth.

[FR Doc. 2020-21159

Filed 9-22-20; 11:15 am]

Billing code 3295-F0-P